SMALL BUSINESS ADMINISTRATION

[Disaster Declaration # 10787]

Missouri Disaster Number MO-00008

AGENCY: U.S. Small Business Administration.

ACTION: Amendment 1.

SUMMARY: This is an amendment of the Presidential declaration of a major disaster for Public Assistance Only for the State of Missouri (FEMA-1676-DR), dated 01/15/2007.

Incident: Severe Winter Storms and Flooding.

Incident Period: 01/12/2007 through 01/22/2007.

EFFECTIVE DATE: 01/22/2007.

Physical Loan Application Deadline Date: 03/16/2007.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of MISSOURI, dated 01/15/2007, is hereby amended to establish the incident period for this disaster as beginning 01/12/2007 and continuing through 01/22/2007.

All other information in the original declaration remains unchanged.

(Catalog of Federal Domestic Assistance Number 59008)

Herbert L. Mitchell,
Associate Administrator for Disaster Assistance.

[FR Doc. E7-2008 Filed 2-6-07; 8:45 am]

BILLING CODE 8025-01-P